DEPARTMENT OF HEALTH AND HUMAN SERVICES

National Institutes of Health

Adverse Outcome Pathways: From Research to Regulation Workshop; Notice of Public Meeting and Registration Information

SUMMARY: The National Toxicology Program (NTP) Interagency Center for the Evaluation of Alternative Toxicological Methods (NICEATM) announces a workshop on “Adverse Outcome Pathways: From Research to Regulation.” The workshop proposes to initiate stakeholder interaction and collaboration to enhance scientific development of the Adverse Outcome Pathway (AOP) concept with the goal of improving regulatory assessment of chemical toxicity. Registration is requested for attendance and required to access the webcast. Information about the meeting and registration is available at http://ntp.niehs.nih.gov/go/41374.

DATES:

Meeting: September 3-5, 2014, from 8:30 a.m. to approximately 5:30 p.m. Eastern Daylight Time (EDT) on September 3 and 4 and from 9:00 a.m. to approximately 4:00 p.m. EDT on September 5. A poster session will be held on September 4 from 6:30 p.m. to 8:30 p.m.

Meeting Registration: Registration is open through August 15, 2014. Registration to view the plenary sessions of the workshop via webcast is required.

ADDRESSES:

Meeting Location: William H. Natcher Conference Center, National Institutes of Health, Bethesda, Maryland 20892.

Meeting Web page: The preliminary agenda, registration, and other meeting materials are at http://ntp.niehs.nih.gov/go/41374.

FOR FURTHER INFORMATION CONTACT: Dr. Warren S. Casey, Director, NICEATM; email: warren.casey@nih.gov; telephone: (919) 316-4729.

SUPPLEMENTARY INFORMATION:

Background: Traditional toxicology test methods expose multiple animals to test substances and observe adverse outcomes; these methods may not efficiently serve future scientific and regulatory needs. To improve the regulatory assessment of chemical toxicity, NICEATM is evaluating the use of AOPs, a conceptual framework relating toxic exposures to illness or injury in an individual or a population through specific molecular and cellular changes.

Through plenary presentations, case studies, and breakout sessions, the workshop will engage stakeholders in how the scientific development of AOPs could enhance regulatory assessment of chemical toxicity. The workshop steering committee is comprised of members from government and nongovernment stakeholders including the NTP, Physicians Committee for Responsible Medicine, European Union Reference Laboratory for Alternatives to Animal Testing, Consumer Product Safety Commission, Dow Chemical Company, U.S. Environmental Protection Agency, U.S. Food and Drug Administration, Health and Environmental Sciences Institute, and Proctor & Gamble.

Meeting and Registration: This meeting is open to the public, free of charge, with attendance limited only by the space available. A preliminary agenda and additional information are available at http://ntp.niehs.nih.gov/go/41374. The plenary sessions of the workshop will be webcast. Registration is required to view the webcast; the URL for the webcast will be provided in an email prior to the meeting. Individuals who plan to attend in person should register at http://ntp.niehs.nih.gov/go/41374 by August 15, 2014, to facilitate planning for the workshop. Individuals interested in this workshop are encouraged to visit the Web page to stay abreast of the most current information.

Information for visitors to the William H. Natcher Conference Center is available at http://www.orf.od.nih.gov/AboutORF/BFM/Pages/45Beth.aspx. Individuals with disabilities who need accommodation to participate in this event should contact Dr. Elizabeth Maull at phone: (919) 316-4668 or email: maull@niehs.nih.gov. TTY users should contact the Federal TTY Relay Service at (800) 877-8339. Requests should be made at least five business days in advance of the event.

Background Information on NICEATM: NICEATM conducts data analyses, workshops, independent validation studies, and other activities to assess new, revised, and alternative test methods and strategies. NICEATM also provides support for the Interagency Coordinating Committee on the Validation of Alternative Methods (ICCVAM). The ICCVAM Authorization Act of 2000 (42 U.S.C. 285l-3) provides authority for ICCVAM and NICEATM in the development and implementation of alternative test methods in regulatory safety testing. Information about NICEATM and ICCVAM is found at http://ntp.niehs.nih.gov/go/niceatm and http://ntp.niehs.nih.gov/go/iccvam.

Dated: June 17, 2014.
John R. Bucher,
Associate Director, National Toxicology Program.

[FR Doc. 2014-14738 Filed 6-24-14; 8:45 am]

BILLING CODE 4140-01-P